DEPARTMENT OF TRANSPORTATION

Federal Aviation Administration

14 CFR Part 71

[Airspace Docket No. 02-ASO-3]

Amendment to Class D Airspace; Eglin AFB, FL; Correction

AGENCY: Federal Aviation Administration (FAA), DOT.

ACTION: Correcting amendments.

SUMMARY: This document contains corrections to the final rule (99-ASO-19), which was published in the Federal Register on December 14, 1999, (64 FR 69631), amending Class D airspace at Eglin AFB, FL. This action corrects errors in the legal description for the Class D airspace at Eglin AFB, FL.

EFFECTIVE DATE: 0901 UTC, April 18, 2002.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

Background

Federal Register Document 99-32347, Airspace Docket No. 99-ASO-19, published on December 14, 1999, (64 FR 69631), amends Class D airspace at Eglin AFB, FL. Errors were discovered in the legal description, describing the Class D airspace area. One word, “of” has been changed to “to”, and the word “east” has been inserted to more clearly describe the airspace boundaries. These actions correct the errors.

Designations for Class D airspace areas extending upward from the surface of the earth are published in Paragraph 5000 of FAA Order 7400.9J, dated August 31, 2001, and effective September 16, 2001, which is incorporated by reference in 14 CFR 71.1. The Class D airspace designation listed in this document will be published subsequently in the Order.

Need for Correction

As published, the final rule contains errors which incorrectly describe the geographical boundaries of the Class D airspace area. Accordingly, pursuant to the authority delegated to me, the legal description for the Class D airspace area at Eglin AFB, FL, incorporated by reference at § 71.1, 14 CFR 71.1, and published in the Federal Register on December 14, 1999, (64 FR 69631), is corrected by making the following correcting amendment.

List of Subjects in 14 CFR Part 71

Airspace, Incorporation by reference, Navigation (air).

In consideration of the foregoing, the Federal Aviation Administration corrects the adopted amendment, 14 CFR part 71, by making the following correcting amendment:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389

§ 71.1 [Corrected]

2. The incorporation by reference in 14 CFR 71.1 of Federal Aviation Administration Order 7400.9J, Airspace Designations and Reporting Points, dated August 31, 2001, and effective September 16, 2001, is amended as follows:

Paragraph 5000 Class D Airspace

ASO FL D Eglin AFB, FL [CORRECTED]

Eglin AFB, FL

(Lat. 30°29′00″N, long. 86°31′34″W)

Destin—Fort Walton Beach

(Lat. 30°24′00″N, long. 86°28′17″W)

Destin NDB

(Lat. 30°24′18″N, long. 86°28′26″W)

Duke Field

(Lat. 30°39′07″N, long. 86°31′23″W)

Hurlburt Field

(Lat. 30°25′44″N, long. 86°41′20″W)

That airspace extending upward from the surface, to and including 2,600 feet MSL within a 5.5-mile radius of Eglin AFB and within a 4-mile radius of Destin—Fort Walton Beach Airport and within 2.5 miles each side of the 147° bearing from the Destin NDB, extending 7 miles southeast of the NDB, excluding the portion north of a line connecting the 2 points of intersection within a 5.2-mile radius circle centered on Duke Field; excluding the portion southwest of a line connecting the 2 points of intersection within a 5.3-mile radius of Hurlburt Field; excluding a portion east of a line beginning at lat. 30°30′43″N., long 86°26′21″W., extending north to the 5.5-mile radius and north of a line beginning at lat. 30°30′43″N., long. 86°26′21″W. extending east to the 5.5-mile radius.

* * * * *

Issued in College Park, Georgia, on January 29, 2002.
Wade T. Carpenter,
Acting Manager, Air Traffic Division, Southern Region.

[FR Doc. 02-2721 Filed 2-4-02; 8:45 am]

BILLING CODE 4910-13-M